OFFICE OF MANAGEMENT AND BUDGET

OMB Sequestration Update Report to the President and Congress for Fiscal Year 2020

AGENCY: Executive Office of the President, Office of Management and Budget.

ACTION: Notice of availability of the OMB Sequestration Update Report to the President and Congress for FY 2020.

SUMMARY: OMB is issuing the OMB Sequestration Update Report to the President and Congress for Fiscal Year 2020 to report on the status of the discretionary caps and on the compliance of pending discretionary appropriations legislation with those caps.

DATES: August 20, 2019.

ADDRESSES: The OMB Sequestration Reports to the President and Congress is available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

SUPPLEMENTARY INFORMATION: Section 254 of the Balanced Budget and Emergency Deficit Control Act of 1985 requires the Office of Management and Budget (OMB) to issue a Sequestration Update Report by August 20th of each year. For fiscal year 2019, the report finds enacted appropriations to be at or below the caps after accounting for enacted supplemental appropriations. For fiscal years 2020 and 2021, the report formally updates the caps for the revisions enacted in the Bipartisan Budget Act of 2019. The report also finds that actions to date by the House of Representatives for the 12 annual appropriations bills for fiscal year 2020 would breach the non-defense cap under OMB estimates if they were enacted into law. The Senate has not yet begun consideration of its 2020 appropriations bills; therefore, an evaluation of Senate compliance cannot be made at this time. Finally, the report contains OMB's Preview Estimate of the Disaster Relief Funding Adjustment for FY 2020.

Russell T. Vought,
Acting Director.

[FR Doc. 2019-18442 Filed 8-23-19; 8:45 am]

BILLING CODE 3110-01-P